ENVIRONMENTAL PROTECTION AGENCY

40 CFR Part 49

[EPA-HQ-OAR-2011-0151; FRL-9913-98-OAR]

RIN 2060-AS27

Managing Emissions From Oil and Natural Gas Production in Indian Country

AGENCY: Environmental Protection Agency (EPA).

ACTION: Proposed rule; extension of public comment period.

SUMMARY: The Environmental Protection Agency is announcing that the period for providing public comments on the June 5, 2014, advanced notice of proposed rulemaking for “Managing Emissions from Oil and Natural Gas Production in Indian Country” is being extended by 30 days.

DATES: Comments. The public comment period for the advanced notice of proposed rulemaking published June 5, 2014 (79 FR 32502) is being extended by 30 days to August 20, 2014, in order to provide the public additional time to submit comments.

ADDRESSES: Comments. Written comments on the advanced notice of proposed rulemaking may be submitted to the EPA electronically, by mail, by facsimile, or through hand delivery/courier. Please refer to the advanced notice of proposed rulemaking (79 FR 32502) for the addresses and detailed instructions.

Docket. Publicly available documents relevant to this action are available for public inspection either electronically at http://www.regulations.gov or in hard copy at the EPA Docket Center, Room 3334, 1301 Constitution Ave. NW., Washington, DC. The Public Reading Room is open from 8:30 a.m. to 4:30 p.m., Monday through Friday, excluding legal holidays. A reasonable fee may be charged for copying. The EPA has established the official public docket No. EPA-HQ-OAR-2011-0151.

Worldwide Web. A copy of this notice will be posted in the regulations and standards section of our new source review (NSR) home page located at http://www.epa.gov/nsr and on the tribal NSR page at http://www.epa.gov/air/tribal/tribalnsr.html.

FOR FURTHER INFORMATION CONTACT: Mr. Christopher Stoneman, Outreach and Information Division, Office of Air Quality Planning and Standards, (C304-01), U.S. EPA, Research Triangle Park, NC 27711; telephone number (919) 541-0823, facsimile number (919) 541-0072; email address: stoneman.chris@epa.gov.

SUPPLEMENTARY INFORMATION: Comment Period. The EPA received two requests to extend the comment period on the June 5, 2014, advanced notice of proposed rulemaking for “Managing Emissions from Oil and Natural Gas Production in Indian Country.” Based on its evaluation of those requests and the level of interest in the advance notice of proposed rulemaking, the EPA is extending the public comment period for an additional 30 days. The public comment period will end on August 20, 2014, rather than July 21, 2014. This will ensure that the public has sufficient time to review and comment on all of the information available, including the advanced notice of proposed rulemaking and other materials in the docket.

List of Subjects in 40 CFR Part 49

Environmental protection, Administrative practice and procedure, Air pollution control, Indians, Indians-law, Indians-tribal government, Intergovernmental relations, Reporting and recordkeeping requirements.

Dated: July 11, 2014.
Mary E. Henigin,
Acting Director, Office of Air Quality Planning and Standards.

[FR Doc. 2014-16812 Filed 7-16-14; 8:45 am]

BILLING CODE 6560-50-P